DEPARTMENT OF ENERGY

Federal Energy Regulatory Commission

[Project No. 12642-003]

Wilkesboro Hydroelectric Company, LLC; Notice Soliciting Scoping Comments

June 15, 2010

Take notice that the following hydroelectric application has been filed with the Commission and is available for public inspection.

a. Type of Application: Original Major License.

b. Project No.: P-12642-003.

c. Date filed: September 29, 2009.

d. Applicant: Wilkesboro Hydroelectric Company, LLC.

e. Name of Project: W. Kerr Scott Hydropower Project.

f. Location: The proposed project would be located at the existing U.S. Army Corps of Engineers' (Corps) W. Kerr Scott (Kerr Scott) dam on the Yadkin River, near Wilkesboro in Wilkes County, North Carolina. A total of 3.5 acres of federal lands would be occupied by the proposed project.

g. Filed Pursuant to: Federal Power Act 16 U.S.C. 791(a)-825(r).

h. Applicant Contacts: Mr. Dean Edwards, P.O. Box 1565, Dover, FL 33527, (813) 659-3014; and Mr. Kevin Edwards, P.O. Box 143, Mayodan, NC 27027, (336) 589-6138

i. FERC Contact: Jennifer Adams at (202) 502-8087, or jennifer.adams@ferc.gov.

j. Deadline for filing scoping comments: 30 days from the issuance date of this notice, or July 15, 2010.

All documents may be filed electronically via the Internet. See 18 CFR 385.2001(a)(1)(iii) and the instructions on the Commission's Web site (http://www.ferc.gov/docs-filing/ferconline.asp), under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The proposed project would use the existing Kerr Scott dam, which is federally owned and administered by the U.S. Army Corps of Engineers (Corps). The proposed project would use releases from the reservoir, as directed by the Corps, that would normally be released directly to the Yadkin River downstream of the dam. All existing facilities would remain, but some features would be modified and new facilities would be constructed.

The proposed project would consist of: (1) Modifying the existing low-level intake tower to be a multilevel intake structure with trashracks; (2) placing a 580-foot-long, 11-foot-diameter steel liner in the downstream portion of the existing 749-foot-long reinforced concrete water conduit to enable pressurization of the conduit; (3) a penstock bifurcation and two 8-foot-diameter steel penstocks; (4) a gate at the end of the water conduit, with a Howell-Bunger-ring-jet-type fixed cone valve installed in the gate; (5) an 80-foot-long by 30-foot-wide powerhouse containing one 2 MW Kaplan unit and one 2 MW propeller-type unit; (6) an 80-foot-wide by 30-foot-long discharge channel that joins the Yadkin River at the downstream end of the existing stilling basin; (7) a substation; (8) a new underground 12.47-kilovolt (kV) transmission line that extends 150 feet from the proposed powerhouse to an existing utility pole to the south of the powerhouse, and an upgraded 3,600-foot-long, 12.47-kV three-phase line that connects the utility pole to a Duke Energy substation; and (9) appurtenant facilities. The Kerr Scott project would generate approximately 22,400 megawatt-hours annually.

m. A copy of the application is available for review at the Commission in the Public Reference Room, or may be viewed on the Commission's Web site at http://www.ferc.gov, using the “eLibrary” link. Enter the docket number, excluding the last three digits in the docket number field, to access the document. For assistance, contact FERC Online Support. A copy is available for inspection and reproduction at the address in item h above.

n. You may register online at http://www.ferc.gov/docs-filing/esubscription.asp to be notified via e-mail of new filings and issuances related to this or other pending projects. For assistance, contact FERC Online Support.

o. Scoping Process.

The Commission staff intends to prepare a single Environmental Assessment (EA) for the Kerr Scott Hydropower Project, in accordance with the National Environmental Policy Act. The EA will consider both site-specific and cumulative environmental impacts and reasonable alternatives to the proposed action.

Commission staff does not propose to conduct any on-site scoping meetings at this time. Instead, we are soliciting comments, recommendations, and information on the Scoping Document (SD) issued on June 15, 2010.

Copies of the SD outlining the subject areas to be addressed in the EA were distributed to the parties on the Commission's mailing list and the applicant's distribution list. Copies of the SD may be viewed on the Web at http://www.ferc.gov, using the “eLibrary” link. Enter the docket number, excluding the last three digits in the docket number field, to access the document. For assistance, call 1-866-208-3676, or for TTY, (202) 502-8659.

Kimberly D. Bose,
Secretary.

[FR Doc. 2010-14947 Filed 6-18-10; 8:45 am]

BILLING CODE 6717-01-P